ENVIRONMENTAL PROTECTION AGENCY

[OPPT-2003-0004; FRL-7736-7]

Access to Confidential Business Information by the General Accountability Office

AGENCY: Environmental Protection Agency (EPA).

ACTION: Notice.

SUMMARY: EPA has authorized the General Accountability Office (GAO), access to information which has been submitted to EPA under all sections of the Toxic Substances Control Act (TSCA) and the Federal, Insecticide, Fungicide, and Rodenticide Act (FIFRA). Some of the information may be claimed or determined to be Confidential Business Information (CBI).

DATES: Access to confidential business data started on October 1, 2005.

FOR FURTHER INFORMATION CONTACT: Colby Lintner, Regulatory Coordinator, Environmental Assistance Division (7408M), Office of Pollution Prevention and Toxics (OPPT), Environmental Protection Agency, 1200 Pennsylvania Ave., NW., Washington, DC 20460; telephone number: (202) 554-1404; e-mail address: TSCA-Hotline@.epa.gov.

Additional information on the GAO request and security issues can be obtained from: Erik R. Johnson, Acting Information Management Official (IMO) and Primary Information Security Officer (ISO), Office of Prevention, Pesticides and Toxic Substances (OPPTS), Environmental Protection Agency, 1200 Pennsylvania Ave., NW., Washington, DC 20460; telephone number: (202) 564-0521; e-mail address: Johnson.Erik@epa.gov.

SUPPLEMENTARY INFORMATION:

I. General Information

A. Does this Notice Apply to Me?

This action is directed to the public in general. This action may, however, be of interest to those persons who are or may be required to comply with laws administered by EPA. Since other entities may also be interested, the Agency has not attempted to describe all the specific entities that may be affected by this action. If you have any questions regarding the applicability of this action to a particular entity, consult the person listed under FOR FURTHER INFORMATION CONTACT.

B. How Can I Get Copies of this Document and Other Related Documents?

1. Docket. EPA has established an official public docket for this action under docket identification (ID) number OPPT-2003-0004. The official public docket consists of the documents specifically referenced in this action, any public comments received, and other information related to this action. Although a part of the official docket, the public docket does not include CBI or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, to access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

On August 16, 2005, in accordance with 40 CFR 2.209, the Comptroller General of the GAO requested access to information collected through the authority of TSCA and FIFRA. Some of this information has been treated as CBI. GAO needs this information in connection with its review of EPA's risk assessment processes. EPA has granted GAO access to these materials effective October 1, 2005.

EPA is issuing this notice to inform all submitters of information under all sections of TSCA and FIFRA, that the Agency has provided GAO access to these CBI materials on a need-to-know basis only. All access to TSCA and FIFRA CBI under this arrangement, takes place at EPA Headquarters, and GAO Headquarters located at 441 G St., NW., Washington, DC 20548.

Clearance for access to TSCA and FIFRA CBI under this arrangement may continue until May of 2006. Access started on October 1, 2005.

GAO personnel have signed non-disclosure agreements and were briefed on appropriate security procedures before they were permitted access to the CBI.

List of Subjects

Environmental protection, Confidential business information.

Dated: October 18, 2005.
Susan B. Hazen,
Assistant Administrator, Office of Prevention, Pesticides, and Toxic Substances.

[FR Doc. 05-21839 Filed 11-1-05; 8:45 am]

BILLING CODE 6560-50-S